DEPARTMENT OF TRANSPORTATION

Federal Aviation Administration

14 CFR Part 39

[Docket No. FAA 2004-19119; Directorate Identifier 2004-CE-26-AD; Amendment 39-13903; AD 2004-25-15]

RIN 2120-AA64

Airworthiness Directives; Raytheon Aircraft Company, Model 390, Premier 1 Airplanes

AGENCY: Federal Aviation Administration (FAA), DOT.

ACTION: Final rule.

SUMMARY: The FAA adopts a new airworthiness directive (AD) for certain Raytheon Aircraft Company, Model 390, Premier 1 airplanes. This AD requires you to inspect the routing and security of the left and right main landing gear (MLG) squat switch wire harness installations for damage, repair any damage or replace components, and reinstall the squat switch wire harness. We are issuing this AD to prevent damage to the wire harnesses, which could result in loss of pressurization, loss of transponder responses to interrogations, and failure of other systems utilizing air/ground status signals. This failure could lead to loss of control of the airplane.

DATES: This AD becomes effective on January 18, 2005.

As of January 18, 2005, the Director of the Federal Register approved the incorporation by reference of certain publications listed in the regulation.

ADDRESSES: To get the service information identified in this AD, contact Raytheon Aircraft Company, P.O. Box 85, Wichita, Kansas 67201-0085; telephone: (800) 625-7043.To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-0001 or on the Internet at http://dms.dot.gov. The docket number is FAA-2004-19119.

FOR FURTHER INFORMATION CONTACT: Philip Petty, Aerospace Engineer, ACE-119W, Wichita Aircraft Certification Office, 1801 Airport Road, Room 100, Wichita, Kansas 67209; telephone: (316) 946-4139; facsimile: (316) 946-4107.

SUPPLEMENTARY INFORMATION:

Discussion

What events have caused this AD? FAA received reports of damage to the left and/or right MLG wire harness assemblies on Raytheon Model 390 airplanes. This resulted in various system failures/anomalies due to erroneous air/ground status signals. Improper installation of Kit 390-8103-0001 may have resulted in the damage to the squat switch wire harness assemblies during normal extension and retraction operations. A damaged wire harness and/or squat switch installation may affect multiple systems on the airplane.

What is the potential impact if FAA took no action? Damage to the wire harnesses could result in loss of pressurization, loss of transponder responses to interrogations, and failure of other systems utilizing air/ground status signals. This failure could lead to loss of control of the airplane.

Has FAA taken any action to this point? We issued a proposal to amend part 39 of the Federal Aviation Regulations (14 CFR part 39) to include an AD that would apply to certain Raytheon Aircraft Company, Model 390, Premier 1 airplanes. This proposal was published in the Federal Register as a notice of proposed rulemaking (NPRM) on October 7, 2004 (69 FR 60104). The NPRM proposed to require you to inspect the routing and security of the left and right main landing gear (MLG) squat switch wire harness installations for damage, repair any damage or replace components, and reinstall the squat switch wire harness.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 98 airplanes in the U.S. registry.

What is the cost impact of this AD on owners/operators of the affected airplanes? Raytheon Aircraft Company will provide warranty credit as specified in the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority. We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19119; Directorate Identifier 2004-CE-26-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-25-15 Raytheon Aircraft Company: Amendment 39-13903; Docket No. FAA-2004-19119; Directorate Identifier 2004-E-26-AD.

When Does This AD Become Effective?

(a) This AD becomes effective on January 18, 2005.

What Other ADs Are Affected by This Action?

(b) None.

What Airplanes Are Affected by This AD?

(c) This AD affects the following airplane model and serial numbers that are certificated in any category: Model 390 Premier I, Serials RB-1, RB-4 through RB-84, RB-87 through RB-90, RB-92 through RB-96, RB-99 through RB-101, and RB-103 through RB-106.

What Is the Unsafe Condition Presented in This AD?

(d) This AD is the result of reports of damage to the left and/or right main landing gear (MLG) wire harness assemblies, which resulted in various system failures/anomalies due to erroneous air/ground status signals. The actions specified in this AD are intended to prevent damage to the wire harnesses, which could result in loss of pressurization, loss of transponder responses to interrogations, and failure of other systems utilizing air/ground status signals. This failure could lead to loss of control of the airplane.

What Must I Do To Address This Problem?

(e) To address this problem, you must do the following:

Actions | Compliance | Procedures
(1) For airplanes prior to serial number RB-100 with Kit 390-8103-0001 installed, and for airplanes with production installation of the plunger-style squat switch, serial numbers RB-100, RB-101, and RB-103 through RB-106, perform the following actions: | Inspect within 30 days after the effective date of this AD, January 18, 2005. If damage is found, replace the switch bracket prior to further flight after the inspection | Follow Raytheon Aircraft Company Service Bulletin SB 32-3678, dated June 2004.
(i) Visually inspect the squat switch bracket for corrosion or cracking (damage).
(ii) If damage is found, replace the switch bracket with part number 390-810008-0003/-0004.
(2) All airplanes affected by this AD perform the following actions: (i) Inspect MLG wiring harness service loop for excessive length in air mode (strut extended). The radius of the wire harness service loop should not exceed that of the brake hose service loop. The radius of the brake hose loop should not exceed the radius of the tire. If the length is excessive in air mode, correct in accordance with Raytheon Aircraft Company Service Bulletin SB 32-3678, dated June 2004. (ii) Remove and relocate tie straps and M85052/1-8 mounting clamp. (iii) Perform the landing gear operational test. | Within 30 days after the effective date of this AD, January 18, 2005 | Follow Raytheon Aircraft Company Service Bulletin SB 32-3678, dated June 2004.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Philip Petty, Aerospace Engineer, ACE-119W, Wichita Aircraft Certification Office, 1801 Airport Road, Room 100, Wichita, Kansas 67209; telephone: (316) 946-4139; facsimile: (316) 946-4107.

Does This AD Incorporate Any Material by Reference?

(g) You must do the actions required by this AD following the instructions in Raytheon Aircraft Company Mandatory Service Bulletin SB 32-3678, dated June 2004. The Director of the Federal Register approved the incorporation by reference of this service bulletin in accordance with 5 U.S.C. 552(a) and 1 CFR part 51. To get a copy of this service information, contact Raytheon Aircraft Company, P.O. Box 85, Wichita, Kansas 67201-0085; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19119.

Issued in Kansas City, Missouri, on December 6, 2004.
David R. Showers,
Acting Manager, Small Airplane Directorate, Aircraft Certification Service.

[FR Doc. 04-27195 Filed 12-15-04; 8:45 am]

BILLING CODE 4910-13-P